DEPARTMENT OF COMMERCE

Minority Business Development Agency

Agency Information Collection Activities; Submission for OMB Review; Comment Request; Online Customer Relationship Management (CRM)/Performance Databases

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 1, 2022, during a 60-day comment period. This notice allows for an additional 30 days for public comments.

Agency: Minority Business Development Agency.

Title: Online Customer Relationship Management (CRM)/Performance Databases.

OMB Control Number: 0640-0002.

Form Number(s): None.

Type of Request: Regular Submission. Revision of a currently approved collection.

Number of Respondents: 6,035.

Average Hours per Response: 1 minute to 150 minutes, varies depending on instrument.

Burden Hours: 5,032.

Needs and Uses: MBDA requires all grant participants to report basic client information, service activities and progress on attainment of program goals via the Online CRM/Performance Database. The Online CRM/Performance Database is used to regularly monitor and evaluate the progress of the MBDA programs, to provide the Department and OMB with a summary of the quantitative information required to be submitted about government supported programs, to implement the GPRA/MA, conduct program evaluation in support of the Evidence Act. This information is also summarized and included in the MBDA Annual Performance Report, which is made available to the public.

Affected Public: Individuals or households; Business or other for-profit organizations; Not-for-profit institutions; State, Local, or Tribal government; Federal government.

Frequency: System is used regularly to monitor progress; Daily use.

Respondent's Obligation: Required to Obtain or Retain Benefits.

Legal Authority: Executive Order 11625; Minority Business Development Act (MBD Act), 15 U.S.C. 9501-9598, specifically, §§ 9543 (a).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0640-0002.

Sheleen Dumas,
Department PRA Clearance Officer, Office of the Chief Information Officer, Commerce Department.

[FR Doc. 2022-23599 Filed 10-28-22; 8:45 am]

BILLING CODE 3510-21-P